FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 6, 2013.

A. Federal Reserve Bank of Minneapolis (Jacqueline G. King, Community Affairs Officer) 90 Hennepin Avenue, Minneapolis, Minnesota 55480-0291:

1. Krista B. Ryan, individually and as trustee of the KBR 2008 Irrevocable Trust, Byron, Minnesota; to acquire voting shares of Olmsted Bancorporation, Inc., and thereby indirectly acquire voting shares of First Security Bank, both in Byron, Minnesota.

B. Federal Reserve Bank of Dallas (E. Ann Worthy, Vice President) 2200 North Pearl Street, Dallas, Texas 75201-2272:

1. Richard John Forrest, Sr., individually, and as Trustee of the Richard J. Forrest, Sr. and Betty J. Forrest Revocable Trust, and as Trustee of the Forrest Tire Company, Inc., Profit Sharing Plan; Betty J. Forrest, individually and as Trustee of the Richard J. Forrest, Sr. and Betty J. Forrest Revocable Trust; Robert Hudnall Forrest, Sr., individually, and as Trustee of the Robert H. Forrest, Sr. and Barbara J. Forrest Revocable Trust and as Trustee of the Forrest Tire Company, Inc., Profit Sharing Plan; Barbara J. Forrest, individually and as Trustee of the Robert H. Forrest, Sr. and Barbara J. Forrest Revocable Trust; Robert Hudnall Forrest, Jr., individually and as Trustee of the Forrest Tire Company, Inc., Profit Sharing Plan; Brenda Elaine Forrest, individually; Richard John Forrest, Jr., as Trustee of the Forrest Tire Company, Inc., Profit Sharing Plan; the Forrest Tire Company, Inc., Profit Sharing Plan, all of Carlsbad, New Mexico, and Michael Dale Forrest, individually and JoAnn Forrest, individually, both of Odessa, Texas; all together as a group acting in concert, to acquire voting shares of Carlsbad Bancorporation, Inc., and thereby indirectly acquire voting shares of Carlsbad National Bank, both in Carlsbad, New Mexico.

Board of Governors of the Federal Reserve System, August 19, 2013.
Margaret McCloskey Shanks,
Deputy Secretary of the Board.

[FR Doc. 2013-20487 Filed 8-21-13; 8:45 am]

BILLING CODE 6210-01-P